DEPARTMENT OF COMMERCE

International Trade Administration

[A-570-972]

Stilbenic Optical Brightening Agents From the People's Republic of China: Rescission of Antidumping Duty Administrative Review; 2023-2024

AGENCY: Enforcement and Compliance, International Trade Administration, Department of Commerce.

SUMMARY: The U.S. Department of Commerce (Commerce) is rescinding the administrative review of the antidumping order on stilbenic optical brightening agents (OBAs) from the People's Republic of China (China), covering the period of review (POR) May 1, 2023, through April 30, 2024, because, as explained below, there are no reviewable entries for the companies that are subject to review.

DATES: Applicable September 30, 2024.

FOR FURTHER INFORMATION CONTACT: Stephanie Trejo AD/CVD Operations, Office IV, Enforcement and Compliance, International Trade Administration, U.S. Department of Commerce, 1401 Constitution Avenue NW, Washington, DC 20230; telephone: (202) 482-4390.

SUPPLEMENTARY INFORMATION:

Background

On May 10, 2012, Commerce published in the Federal Register the antidumping duty order on OBAs from China.¹ On May 2, 2023, Commerce published in the Federal Register a notice of opportunity to request an administrative review of the Order.² On May 31, 2024, Commerce received a timely request from a U.S. producer of the domestic like product, Archroma, U.S., Inc. (Archroma), in accordance with 19 CFR 351.213(b)(1), to conduct an administrative review of the Order for five companies.³ We received no other requests for review.

¹ See Certain Stilbenic Optical Brightening Agents from the People's Republic of China: Amended Final Determination of Sales at Less Than Fair Value and Antidumping Duty Order, 77 FR 27423 (May 10, 2012).

² See Antidumping or Countervailing Duty Order, Finding, or Suspended Investigation; Opportunity To Request Administrative Review and Join Annual Inquiry Service List, 89 FR 35778 (May 2, 2024).

³ See Archroma's Letter, “Request for Administrative Review,” dated May 31, 2024.

On July 5, 2024, in accordance with section 751(a) of the Tariff Act of 1930, as amended (the Act), Commerce published in the Federal Register a notice of initiation of the administrative review with respect to the five companies for which Archroma requested a review: (1) Beijing Odyssey Chemical Ind. Co. Ltd, (2) Hebei Dianchang Chemicals Co. Ltd., (3) Jinan Subang Fine Chemical Co., Ltd., (4) Zhejiang Hongda Chemicals Co., Ltd., and (5) Zhejiang Transfar Whyyon Chemical Co., Ltd.⁴ On July 10, 2024, Commerce placed U.S. Customs and Border Protection (CBP) entry data for U.S. imports of the subject merchandise during the POR on the record for respondent selection purposes.⁵ On July 17, 2024, Archroma submitted comments on the CBP data.⁶ On, August 2, 2024, we re-released the CBP data because our first CBP data release inadvertently did not include all of the possible company names combinations.⁷ On August 9, 2024, Archroma submitted comments on the re-release of the CBP data.⁸

⁴ See Initiation of Antidumping and Countervailing Duty Administrative Reviews, 89 FR 55567 (July 5, 2024) (Initiation Notice).

⁵ See Memorandum, “Release of Customs Data from U.S. Customs and Border Protection,” dated July 10, 2024.

⁶ See Archroma's Letter, “Comments on Customs and Border Protection Data,” dated July 17, 2024.

⁷ See Memorandum, “Re-Release of Customs Data from U.S. Customs and Border Protection,” dated August 2, 2024.

⁸ See Archroma's Letter, “Comments on Re-Released Customs and Border Protection Data,” dated August 9, 2024.

On September 6, 2024, Commerce notified all interested parties of its intent to rescind the instant review in full because there were no reviewable, suspended entries of subject merchandise by any of the five companies listed in the Initiation Notice during the POR and invited parties to comment.⁹ No parties submitted comments in response to this notice.

⁹ See Memorandum, “Notice of Intent to Rescind Review,” dated September 6, 2024.

Scope of the Order

The stilbenic OBAs covered by this Order are all forms (whether free acid or salt) of compounds known as triazinylaminostilbenes (i.e., all derivatives of 4,4′-bis [1,3,5- triazin-2-yl] ¹⁰ amino-2,2′-stilbenedisulfonic acid), except for compounds listed in the following paragraph. The stilbenic OBAs covered by this Order include final stilbenic OBA products, as well as intermediate products that are themselves triazinylaminostilbenes produced during the synthesis of stilbenic OBA products.

¹⁰ The brackets in this sentence are part of the chemical formula.

Excluded from this Order are all forms of 4,4′-bis[4-anilino-6-morpholino-1,3,5-triazin-2-yl] amino-2,2′-stilbenedisulfonic acid, C40 H40 N12 O8 S2 (“Fluorescent Brightener 71”). This Order covers the above-described compounds in any state (including but not limited to powder, slurry, or solution), of any concentrations of active stilbenic OBA ingredient, as well as any compositions regardless of additives (i.e., mixtures or blends, whether of stilbenic OBAs with each other, or of stilbenic OBAs with additives that are not stilbenic OBAs), and in any type of packaging.

These stilbenic OBAs are classifiable under subheading 3204.20.8000 of the Harmonized Tariff Schedule of the United States (“HTSUS”), but they may also enter under subheadings 2933.69.6050, 2921.59.4000 and 2921.59.8090. Although the HTSUS subheadings are provided for convenience and customs purposes, the written description of the merchandise is dispositive.

Rescission of Review

Pursuant to 19 CFR 351.213(d)(3), it is Commerce's practice to rescind an administrative review of an antidumping duty order where it concludes that there were no reviewable entries of subject merchandise during the POR.¹¹ Normally, upon completion of an administrative review, the suspended entries are liquidated at the antidumping duty assessment rate for the review period.¹² Therefore, for an administrative review to be conducted, there must be a reviewable, suspended entry that Commerce can instruct CBP to liquidate at the calculated antidumping duty assessment rate for the review period.¹³ As noted above, the CBP data results confirmed that there were no entries of subject merchandise during the POR with respect to all of the companies subject to this review. Accordingly, in the absence of reviewable, suspended entries of subject merchandise during the POR, we are rescinding this administrative review, in its entirety, in accordance with 19 CFR 351.213(d)(3).

¹¹ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

¹² See 19 CFR 351.212(b)(2).

¹³ See 19 CFR 351.213(d)(3)

Cash Deposit Requirements

As Commerce has proceeded to a final rescission of this administrative review, no cash deposit rates will change. Accordingly, the current cash deposit requirements shall remain in effect until further notice.

Assessment Rates

Commerce will instruct CBP to assess antidumping duties on all appropriate entries. Because Commerce is rescinding this review in its entirety, the entries to which this administrative review pertained shall be assessed at rates equal to the cash deposit of estimated antidumping duties required at the time of entry, or withdrawal from warehouse, for consumption, in accordance with 19 CFR 351.212(c)(1)(i). Commerce intends to issue appropriate assessment instructions to CBP 35 days after the publication of this notice in the Federal Register.

Notification Regarding Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of the APO materials, or conversion to judicial protective order, is hereby requested. Failure to comply with regulations and terms of an APO is a violation, which is subject to sanction.

Notification to Interested Parties

This notice is issued and published in accordance with sections 751(a)(1) and 777(i)(1) of the Act and 19 CFR 351.213(d)(4).

Dated: September 24, 2024.
Scot Fullerton,
Acting Deputy Assistant Secretary for Antidumping and Countervailing Duty Operations.

[FR Doc. 2024-22281 Filed 9-27-24; 8:45 am]

BILLING CODE 3510-DS-P